DEPARTMENT OF LABOR

Employment and Training Administration

[TA-W-55,210]

Wellstone Mills, LLC, Eufaula, AL; Notice of Termination of Investigation

Pursuant to section 221 of the Trade Act of 1974, as amended, an investigation was initiated on July 9, 2004, in response to a worker petition filed July 6, 2004, on behalf of workers at Wellstone Mills, LLC, Eufaula, Alabama.

The petitioning group of workers is covered by an earlier petition filed on July 7, 2004 (TA-W-55,202), that is the subject of an ongoing investigation for which a determination has not yet been issued. Further investigation in this case would duplicate efforts and serve no purpose; therefore the investigation under this petition has been terminated.

Signed in Washington, DC, this 15th day of July, 2004.
Elliott S. Kushner,
Certifying Officer, Division of Trade Adjustment Assistance.

[FR Doc. 04-17599 Filed 8-2-04; 8:45 am]

BILLING CODE 4910-30-P